DEPARTMENT OF STATE

[Public Notice 7889]

60-Day Notice of Two Proposed Directorate of Defense Trade Controls Information Collections: “Request To Change End-User, End-Use, and/or Destination of Hardware” and “Request for Advisory Opinion”

ACTION: Notice of request for public comments.

SUMMARY: The Department of State is seeking Office of Management and Budget (OMB) approval for the information collections described below. The purpose of this notice is to allow 60 days for public comment in the Federal Register preceding submission to OMB. We are conducting this process in accordance with the Paperwork Reduction Act of 1995.

• Title of Information Collection: Request To Change End-User, End-Use, and/or Destination of Hardware.

• OMB Control Number: 1405-0173.

• Type of Request: Extension of Currently Approved Collection.

• Originating Office: Bureau of Political-Military Affairs, Directorate of Defense Trade Controls, PM/DDTC.

• Form Number: DS-6004.

• Respondents: Business and Nonprofit Organizations.

• Estimated Number of Respondents: 2,700.

• Estimated Number of Responses: 2,700.

• Average Hours per Response: 1 hour.

• Total Estimated Burden: 2,700 hours.

• Frequency: On Occasion.

• Obligation To Respond: Required to Obtain Benefits.

• Title of Information Collection: Request for Advisory Opinion.

• OMB Control Number: 1405-0174.

• Type of Request: Extension of Currently Approved Collection.

• Originating Office: Bureau of Political-Military Affairs, Directorate of Defense Trade Controls, PM/DDTC.

• Form Number: DS-6001.

• Respondents: Business and Nonprofit Organizations.

• Estimated Number of Respondents: 250.

• Estimated Number of Responses: 250.

• Average Hours per Response:1 hour.

• Total Estimated Burden: 250 hours.

• Frequency: On Occasion.

• Obligation to Respond: Voluntary.

DATES: The Department will accept comments from the public up to 60 days from May 17, 2012.

ADDRESSES: Comments and questions should be directed to Nicholas Memos, Office of Defense Trade Controls Policy, U.S. Department of State, who may be reached via the following methods:

• Internet: Persons with access to the Internet may view and comment on this notice by going to the Federal regulations Web site at www.regulations.gov. You can search for the document by selecting “Notice” under Document Type, entering the Public Notice number as the “Keyword or ID,” checking the “Open for Comment” box, and then clicking “Search.” If necessary, use the “Narrow by Agency” option on the Results page.

• Email: memosni@state.gov.

• Mail: Nicholas Memos, SA-1, 12th Floor, Directorate of Defense Trade Controls, Bureau of Political-Military Affairs, U.S. Department of State, Washington, DC 20522-0112.

You must include the information collection title in the subject line of your message/letter.

FOR FURTHER INFORMATION CONTACT: Direct requests for additional information regarding the collection listed in this notice to Nicholas Memos, PM/DDTC, SA-1, 12th Floor, Directorate of Defense Trade Controls, Bureau of Political-Military Affairs, U.S. Department of State, Washington, DC 20522-0112, who may be reached via phone at (202) 663-2829, or via email at memosni@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The export, temporary import, temporary export and brokering of defense articles, defense services and related technical data are licensed by the Directorate of Defense Trade Controls in accordance with the International Traffic in Arms Regulations (22 CFR parts 120-130) and Section 38 of the Arms Export Control Act. Those of the public who manufacture or export defense articles, defense services, and related technical data, or the brokering thereof, must register with the Department of State. Persons desiring to engage in brokering activities must submit an application or written request to conduct the transaction to the Department to obtain a decision whether it is in the interests of U.S. foreign policy and national security to approve the transaction. Also, registered brokers must submit annual reports regarding all brokering activity that was transacted, and registered manufacturers and exporter must maintain records of defense trade activities for five years.

Methodology: These forms/information collections may be sent to the Directorate of Defense Trade Controls via the following methods: mail or personal delivery.

Dated: May 14, 2012.
Robert S. Kovac,
Managing Director of Defense Trade Controls, Bureau of Political-Military Affairs, U.S. Department of State.

[FR Doc. 2012-11981 Filed 5-16-12; 8:45 am]

BILLING CODE 4710-25-P